DEPARTMENT OF HOMELAND SECURITY

Bureau of Customs and Border Protection

DEPARTMENT OF THE TREASURY

19 CFR Part 141

Entry of Merchandise

CFR Correction

In Title 19 of the Code of Federal Regulations, Parts 141 to 199, revised as of April 1, 2010, on page 6, the second general authority citation for part 141 is removed.

[FR Doc. 2011-6840 Filed 3-21-11; 8:45 am]

BILLING CODE 1505-01-D